DEPARTMENT OF THE INTERIOR

National Park Service

[NPS-WASO-NRSS-BRD-NPS0033295; PWONRADB0 PPMRSNR1Y.NM00000 (222); OMB Control Number 1024-0265]

Agency Information Collection Activities; NPS Institutional Animal Care and Use Committee (IACUC) General Submission, Exhibitor, Annual Review, and Amendment Forms

AGENCY: National Park Service, Interior.

ACTION: Notice of information collection; request for comment.

SUMMARY: In accordance with the Paperwork Reduction Act of 1995, we, the National Park Service (NPS) are proposing to renew an information collection.

DATES: Interested persons are invited to submit comments on or before June 21, 2022.

ADDRESSES: Please provide a copy of your comments to the NPS Information Collection Clearance Officer (ADIR-ICCO), 12201 Sunrise Valley Drive, (MS-242), Reston, VA 20191 (mail); or phadrea_ponds@nps.gov (email). Please include “1024-0265” in the subject line of your comments.

FOR FURTHER INFORMATION CONTACT: To request additional information about this information collection request (ICR) by mail, contact Aaron Smith, NPS IACUC Administrator by mail at Biological Resource Division, 1201 Oakridge Drive, Suite 200, Fort Collins, CO, 80525; or by email at aaron_d_smith@nps.gov. You may also contact Dr. Laurie Baeten by email at laurie_baeten@nps.gov or telephone at (970) 966-0756. Individuals in the United States who are deaf, deafblind, hard of hearing, or have a speech disability may dial 711 (TTY, TDD, or TeleBraille) to access telecommunications relay services. Individuals outside the United States should use the relay services offered within their country to make international calls to the point-of-contact in the United States. You may also view the ICR at https://www.reginfo.gov/public/do/PRAMain.

SUPPLEMENTARY INFORMATION: In accordance with the Paperwork Reduction Act of 1995, (PRA, 44 U.S.C. 3501 et seq.) and 5 CFR 1320.8(d)(1), all information collections require approval under the PRA.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. We will include or summarize each comment in our request to the Office of Management and Budget (OMB) to approve this ICR. Before including your address, phone number, email address, or other personal identifying information in your comment, you should be aware that your entire comment—including your personal identifying information—may be made publicly available at any time. While you can ask us in your comment to withhold your personal identifying information from public review, we cannot guarantee that we will be able to do so.

Abstract: Pursuant to the Animal Welfare Act (AWA), its Regulations (AWAR), and the Interagency Research Animal Committee (IRAC), any entity or institution that uses vertebrate animals for research, testing, or training purposes must have an oversight committee to evaluate all aspects of that institution's animal care and use. To be in compliance, the NPS is responsible for managing and maintaining an Institutional Animal Care and Use Committee (IACUC) that has the experience and expertise necessary to assess and approve all research, testing, or training activities involving vertebrate animals on NPS managed lands and territories. All research, testing, or training projects involving animals taking place on NPS territories must be approved by the NPS IACUC prior to their commencement.

Principal Investigators (PI) are required to submit one of the following forms for consideration by the committee:

• IACUC General Submission (GS) Form (NPS Form 10-1301)

• IACUC Amendment Form (NPS Form 10-1301A)

• IACUC Annual Review Form (NPS Form 10-1302)

• IACUC Concurrence Form (NPS Form 10-1303)

• IACUC Field Study Form (NPS Form 10-1304)

As directed by the AWA, NPS IACUC is a self-regulating entity that currently consists of a Chair, NPS Regional members, and two additional members (a veterinarian serving as the “Attending Veterinarian” and another individual serving as the “Unaffiliated Member at-Large”).

Title of Collection: NPS Institutional Animal Care and Use Committee (IACUC) General Submission, Annual Review, Concurrence, Field Study, and Amendment Forms.

OMB Control Number: 1024-0265.

Form Numbers: NPS Forms 10-1301, 10-1301A, 10-1302, 10-1303 and 10-1304.

Type of Review: Extension of a currently approved collection.

Respondents/Affected Public: State and local governments; nonprofit organizations and private businesses.

Respondent's Obligation: Mandatory.

Total Estimated Annual Number of Responses: 230.

Estimated Completion Time per Response: Varies from 15 minutes to 3 hours depending on respondent and/or activity.

Total Estimated Annual Burden Hours: 140 Hours.

Frequency of Collection: On occasion.

Total Estimated Annual Nonhour Burden Cost: None.

Respondent and forms | Annual number of responses | Completion time per form | Total burden (hours) *
State and Local Agencies:
General Submission Form (NPS Form 10-1301) | 14 | 3 hours | 42
Amendment Form (NPS Form 10-1301A) | 10 | 15 minutes | 3
Annual Review Form (NPS Form 10-1302) | 55 | 15 minutes | 14
Field Study Form (NPS Form 10-1304) | 10 | 1 hour | 10
Concurrence Form (NPS Form 10-1303) | 41 | 15 minutes | 10
Subtotal | 130 |  | 79
Private (non-profit):
General Submission Form (NPS Form 10-1301) | 10 | 3 hours | 30
Amendment Form (NPS Form 10-1301A) | 10 | 15 minutes | 3
Annual Review Form (NPS Form 10-1302) | 40 | 15 minutes | 10
Field Study Form (NPS Form 10-1304) | 10 | 1 hour | 10
Concurrence Form (NPS Form 10-1303) | 30 | 15 minutes | 8
Subtotal | 100 |  | 61
Total | 230 |  | 140

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2022-08600 Filed 4-21-22; 8:45 am]

BILLING CODE 4312-52-P